DEPARTMENT OF JUSTICE

Antitrust Division

Notice Pursuant to The National Cooperative Research and Production Act of 1993—Maritime Sustainment Technology and Innovation Consortium

Notice is hereby given that, on July 7, 2022, pursuant to Section 6(a) of the National Cooperative Research and Production Act of 1993, 15 U.S.C. 4301 et seq. (“the Act”), Maritime Sustainment Technology and Innovation Consortium (“MSTIC”) has filed written notifications simultaneously with the Attorney General and the Federal Trade Commission disclosing changes in its membership. The notifications were filed for the purpose of extending the Act's provisions limiting the recovery of antitrust plaintiffs to actual damages under specified circumstances.

Specifically, 2G Engineering LLC, Sun Prairie, WI; Applied Engineering Management Corporation, Herndon, VA; Arimon Technologies, Inc., Montello, WI; Boon Logic Inc., Minneapolis, MN; Cynalytica, Inc., San Luis Obispo, CA; Fairlead Integrated, LLC, Portsmouth, VA; General Electric Company, Niskayuna, NY; Gibbs & Cox, Inc., Arlington, VA; Hill Technical Solutions, LLC, Huntsville, AL; Oceaneering International, Inc., Chesapeake, VA; Polaron Analytics, Beavercreek, OH; Storage Strategies Inc (SSI), Manassas Park, VA; The Columbia Group, Inc., Washington, DC; and Woodward, Inc., Fort Collins, CO have been added as parties to this venture.

Also, Intelligent Automation, Rockville, VA; and Temple Allen Industries, Rockville, MD have withdrawn as parties to this venture.

No other changes have been made in either the membership or planned activity of the group research project. Membership in this group research project remains open, and MSTIC intends to file additional written notifications disclosing all changes in membership.

On October 21, 2020, MSTIC filed its original notification pursuant to Section 6(a) of the Act. The Department of Justice published a notice in the Federal Register pursuant to Section 6(b) of the Act on November 19, 2020 (85 FR 73750).

The last notification was filed with the Department on April 8, 2022. A notice was published in the Federal Register pursuant to Section 6(b) of the Act on May 12, 2022 (87 FR 29180).

Suzanne Morris,
Chief, Premerger and Division Statistics, Antitrust Division.

[FR Doc. 2022-16406 Filed 7-29-22; 8:45 am]

BILLING CODE P